DEPARTMENT OF HEALTH AND HUMAN SERVICES

Centers for Disease Control and Prevention

[30Day-04-0415X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Surveillance for Ciguatera Fish Poisoning in Recreational Fishers Utilizing Texas Gulf Coast Oil Rigs—New—National Center for Environmental Health (NCEH), Centers for Disease Control and Prevention (CDC).

This public health surveillance activity will quantify the scope of ciguatera poisonings in the recreational fishing community of coastal Texas. The Texas Department of Health has received reports of ciguatera-toxic fish caught around Texas offshore oil rigs, but anecdotal reports to researchers at the University of Texas suggest that the incidence of ciguatera fish poisoning is greater than what has been reported to the Texas Department of Health. We propose to conduct surveillance activities to identify the prevalence of ciguatera fish poisoning around Texas Gulf Coast oil rigs. This study will provide critical data in guiding efforts to characterize the scope of ciguatera poisonings, to identify risk factors, and to prevent an emerging illness associated with reef ecosystems.

A questionnaire will be administered over a one-year period to recreational spear-fishers and to hook-and-line anglers who have consumed fish caught on the reef ecosystems off the Texas Gulf Coast. There are no costs to respondents. The annualized burden is estimated to be 230 hours.

Respondent | No. of respondents | No. of responses/ respondent | Average burden per response (in hours)
Screening study participants | 750 | 1 | 5/60
Texas Saltwater Fishers | 500 | 1 | 20/60

Dated: October 7, 2004.
Alvin Hall,
Director, Management Analysis and Services Office, Centers for Disease Control and Prevention.

[FR Doc. 04-23023 Filed 10-13-04; 8:45 am]

BILLING CODE 4163-18-P